DEPARTMENT OF ENERGY

Notice of Call for Nominations for Appointment to the Environmental Management Advisory Board

AGENCY: Department of Energy.

ACTION: Notice.

SUMMARY: This notice constitutes an open call to the public to submit nominations for membership on the Environmental Management Advisory Board.

DATES: Nominations will be accepted through May 31, 2013.

ADDRESSES: Environmental Management Advisory Board (EM-3.2), U.S. Department of Energy, 1000 Independence Avenue SW., Washington, DC 20585.

FOR FURTHER INFORMATION CONTACT: Kristen G. Ellis, Designated Federal Officer, EMAB (EM-3.2), U.S. Department of Energy, 1000 Independence Avenue SW., Washington, DC 20585. Phone (202) 586-5810; fax (202) 586-0293 or email: kristen.ellis@em.doe.gov.

SUPPLEMENTARY INFORMATION: The Department of Energy's (DOE) Office of Environmental Management is accepting nominations through May 31, 2013, to fill vacancies on its Environmental Management Advisory Board (EMAB or Board). Applicants with expertise in project management, acquisition management, human capital management, environmental management and engineering, or other related fields are preferred; this expertise may be drawn from service in the private sector, academia, research institutions, or professional organizations.

The mission of the Office of Environmental Management is to complete the safe cleanup of the environmental legacy brought about from five decades of nuclear weapons development and government-sponsored nuclear energy research. EMAB provides advice to the Assistant Secretary for the Office of Environmental Management on a broad range of programmatic issues, including project management and oversight, cost/benefit analyses, program performance, human capital development, and contracts and acquisition strategies. The Board is comprised of up to 15 members, who are appointed by the Secretary of Energy as special Government employees or as representatives of entities including, among others, research facilities, academic institutions, regulatory entities, and stakeholder organizations, should the Board's tasks requires such representation.

EMAB meets the criteria for, and is subject to the Federal Advisory Committee Act (FACA), Title 5, Appendix of the United States Code. Members are selected in accordance with FACA requirements and serve on an uncompensated, volunteer basis. However, members may be reimbursed in accordance with the Federal Travel Regulations for per diem and travel expenses incurred while attending Board meetings.

Any interested person or organization may nominate qualified individuals for membership. Self-nominations are also welcome. Nominations must include a resume and short biography describing the educational and professional qualifications of the nominee and the nominee's current occupation, position, address and daytime telephone number. Nominations can be sent by U.S. Mail or electronically to Ms. Kristen G. Ellis, Designated Federal Official, at the address above. For further information on EMAB, please visit http://energy.gov/em/services/communication-engagement/environmental-management-advisory-board-emab or contact Ms. Ellis directly.

Issued at Washington, DC, on May 3, 2013.
LaTanya R. Butler,
Deputy Committee Management Officer.

[FR Doc. 2013-11016 Filed 5-8-13; 8:45 am]

BILLING CODE 6450-01-P